DEPARTMENT OF TRANSPORTATION

Pipeline and Hazardous Materials Safety Administration

[Docket: PHMSA-2010-0354]

Pipeline Safety: Agency Information Collection Activities: Notice of Request for Extension of Currently Approved Information Collections

AGENCY: Pipeline and Hazardous Materials Safety Administration (PHMSA), DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on this ICR was published in the Federal Register on November 29, 2010 (75 FR 73160) under Docket No. PHMSA-2010-0354. No comments were received. The purpose of this notice is to allow the public an additional 30 days to submit comments to OMB on the information collection described below.

ADDRESSES: Send comments regarding the burden estimate, including suggestions for reducing the burden, to the Office of Management and Budget, Office of Information and Regulatory Affairs, Attn: Desk Officer for DOT/PHMSA, 725 17th Street, NW., Washington, DC 20503.

DATES: Interested persons are invited to submit comments on or before March 7, 2011.

FOR FURTHER INFORMATION CONTACT: Angela Dow by telephone at 202-366-1246, by e-mail at angela.dow@dot.gov, or by mail at U.S. Department of Transportation, Pipeline and Hazardous Materials Safety Administration, 1200 New Jersey Avenue, SE., PHP-30, Washington, DC 20590-0001.

SUPPLEMENTARY INFORMATION: Title: Reporting Safety-Related Conditions on Gas, Hazardous Liquid, and Carbon Dioxide Pipelines and Liquefied Natural Gas Facilities.

OMB Control Number: 2137-0578.

Type of Request: Renewal of a currently approved information collection.

Abstract: Each operator of a pipeline facility (except master meter operators) must submit to DOT a written report on any safety-related condition that causes or has caused a significant change or restriction in the operation of a pipeline facility or a condition that is a hazard to life, property or the environment.

Affected Public: Operators of pipeline facilities (except master meter operators).

Estimated number of responses: 142.

Estimated annual burden hours: 852 hours.

Frequency of collection: On occasion.

Comments are invited on: The need for the proposed collection of information for the proper performance of the functions of the agency, including whether the information will have practical utility; the accuracy of the agency's estimate of the burden of the proposed collection of information, including the validity of the methodology and assumptions used; ways to enhance the quality, utility, and clarity of the information to be collected; and ways to minimize the burden of the collection of information on those who are to respond, including the use of appropriate automated, electronic, mechanical, or other technological collection techniques. A comment to OMB is most effective if OMB receives it within 30 days of the date of publication in the Federal Register.

Authority: The Paperwork Reduction Act of 1995; 44 U.S.C. Chapter 35, as amended; and 49 CFR Part 1.

Issued in Washington, DC, on January 31, 2011.
Linda Daugherty,
Deputy Associate Administrator for Policy and Programs.

[FR Doc. 2011-2451 Filed 2-3-11; 8:45 am]

BILLING CODE 4910-60-P